ENVIRONMENTAL PROTECTION AGENCY

[ER-FRL-9056-1]

Environmental Impact Statements; Notice of Availability

Responsible Agency: Office of Federal Activities, General Information 202-564-5632 or https://www.epa.gov/nepa.

Weekly receipt of Environmental Impact Statements (EIS)

Filed March 29, 2021 10 a.m. EST Through April 5, 2021 10 a.m. EST

Pursuant to 40 CFR 1506.9.

Notice: Section 309(a) of the Clean Air Act requires that EPA make public its comments on EISs issued by other Federal agencies. EPA's comment letters on EISs are available at: https://cdxnodengn.epa.gov/cdx-enepa-public/action/eis/search.

EIS No. 20210039, Final, USFS, AZ, Pinto Valley Mine, Review Period Ends: 05/24/2021, Contact: Mindy Sue Vogel 303-275-5250.

EIS No. 20210040, Final, FTA, TX, Dallas CBD Second Light Rail Alignment (D2 Subway), Contact: Terence Plaskon 817-978-0573.

Under 23 U.S.C. 139(n)(2), FTA has issued a single document that consists of a final environmental impact statement and record of decision. Therefore, the 30-day wait/review period under NEPA does not apply to this action.

Dated: April 5, 2021.
Cindy S. Barger,
Director, NEPA Compliance Division, Office of Federal Activities.

[FR Doc. 2021-07298 Filed 4-8-21; 8:45 am]

BILLING CODE 6560-50-P